DEPARTMENT OF ENERGY

Federal Energy Regulatory Commission

18 CFR Part 35

[Docket No. RM06-13-000; Order No. 674]

Conditions for Public Utility Market-Based Rate Authorization Holders

AGENCY: Federal Energy Regulatory Commission, DOE.

ACTION: Final rule: clarification.

SUMMARY: This document clarifies a correction that was published in the Federal Register on March 7, 2006. That action amended an effective date for a Final Rule that published in the Federal Register on February 27, 2006. The correction document referenced the wrong Federal Register page number.

DATES: Effective Date: February 27, 2006.

FOR FURTHER INFORMATION CONTACT: Frank Karabetsos, Office of General Counsel, Federal Energy Regulatory Commission, 888 First Street, NE., Washington, DC 20426, (202) 502-8133, Frank.Karabetsos@ferc.gov.

SUPPLEMENTARY INFORMATION: In FR Doc. 06-2155, published in the Federal Register on March 7, 2006 (71 FR 11304), the correction language cited the wrong page number for the original Federal Register document. FR Doc. 06-2155 is clarified and corrected as follows:

On page 11304, column 1, under SUPPLEMENTARY INFORMATION, change “(71 FR 9698)” to “(71 FR 9695)” and “On page 9698 * * *” to “On page 9695”.

Magalie R. Salas,
Secretary.

[FR Doc. 06-2404 Filed 3-13-06; 8:45 am]

BILLING CODE 6717-01-P